FEDERAL COMMUNICATIONS COMMISSION

Notice of Public Information Collection(s) Being Submitted to OMB for Review and Approval

February 21, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 7, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0176.

Title: Section 73.1510, Experimental Authorizations.

Form Number: N/A.

Type of Review: Extension of a currently approved collection.

Respondents: Business and other for-profit entities.

Number of Respondents: 70.

Estimated Time per Response: 2.25 to 5.25 hours.

Frequency of Response: On occasion reporting requirements.

Total Annual Burden: 323 hours.

Total Annual Costs: $53,375.

Needs and Uses: 47 CFR 73.1510 requires a licensee of an AM, FM, and TV broadcast station to file an informal application with the FCC to request an experimental authorization to conduct technical experimentation directed toward improvement of the technical phases of operation and service. This request shall describe the nature and purpose of experimentation to be conducted, the nature of the experimental signal transmission, and the proposed hours and duration of the experimentation. FCC staff use these data to maintain complete technical information about a broadcast station and to ensure that such experimentation does not cause interference to other broadcast stations.

OMB Control Number: 3060-0398.

Title: Equipment Authorization Measurement Standards, Sections 2.948 and 15.117(g)(2).

Form Number: N/A.

Type of Review: Extension of a currently approved collection.

Respondents: Business or other for-profit entities.

Number of Respondents: 320.

Estimated Time per Response: 5 to 30 hours.

Frequency of Response: Recordkeeping; on occasion, one-time, and three year reporting requirements; third party disclosure.

Total Annual Burden: 9,100 hours.

Total Estimated Cost: None.

Needs and Uses: 47 CFR 2.948 and 15.117(g)(2) of FCC rules require that data accompanying all requests for equipment authorization are valid and that proper testing procedures are used. Testing ensures that potential interference to radio communications is controlled, and if necessary, the data may be used for investigating complaints or harmful interference, or for verifying the manufacturer's compliance with FCC rules. Manufacturers were no longer required to file UHF noise figure data documenting the performance of TV receivers tested and marketed in the U.S. following release of the FCC's Report and Order in ET Docket No. 95-144.

OMB Control Number: 3060-0564.

Title: Section 76.924, Allocation to Service Cost Categories.

From Number: N/A.

Type of Review: Extension of currently approved collection.

Respondents: Business or other for-profit entities.

Number of Respondents: 50.

Estimated Time per Response: 40 hours.

Total Annual Burden: 2,000 hours.

Frequency of Response: Recordkeeping; third party disclosure.

Total Annual Costs: None.

Needs and Uses: 47 CFR 76.924 of FCC rules specifies cost accounting and cost allocation requirements for regulated cable operators. Section 76.924 was established as part of the cable rate regulation requirements set forth in the Cable Television Consumer Protection and Competition Act of 1992 (“1992 Cable Act”), which requires cable operators to rearrange their accounting records to comply with the requirements set forth in section 76.924. Because these requirements became effective July 21, 1993, existing cable operators are assumed to have already rearranged their accounting records and comply with this recordkeeping requirement. Cable operators use the information derived from their accounting records to complete their rate filings, while the local franchising authorities use it to review these rate filings.

OMB Control Number: 3060-0703.

Title: Determining Costs of Regulated Cable Equipment and Installation, FCC Form 1205.

Form Number: FCC 1205.

Type of Review: Extension of a currently approved collection.

Respondents: Business or other for-profit entities.

Number of Respondents: 2,000.

Estimated Time per Response: 4 to 12 hours.

Frequency of Response: Recordkeeping; annual reporting requirements; third party disclosure.

Total Annual Burden: 28,000 hours.

Total Annual Costs: $900,000.

Needs and Uses: Pursuant to 47 CFR 76.923, cable operators must keep records and file FCC Form 1205 annually with the local franchise authority (LFA) to demonstrate that charges for the sale and lease of equipment for installation have been developed in accordance with the FCC rules. The LFA uses the information derived from FCC Form 1205 filings to review equipment and installation rates.

Federal Communications Commission.
Marlene H. Dortch,
Secretary.

[FR Doc. 03-5399 Filed 3-6-03; 8:45 am]

BILLING CODE 6712-01-P